DEPARTMENT OF COMMERCE

National Oceanic and Atmospheric Administration

50 CFR Part 622

[Docket No. 131211999-5045-02]

RIN 0648-BD86

Fisheries of the Caribbean, Gulf of Mexico, and South Atlantic; Coastal Migratory Pelagic Resources in the Gulf of Mexico and Atlantic Region; Amendment 20B

AGENCY: National Marine Fisheries Service (NMFS), National Oceanic and Atmospheric Administration (NOAA), Commerce.

ACTION: Final rule.

SUMMARY: NMFS issues this final rule to implement Amendment 20B to the Fishery Management Plan for the Coastal Migratory Pelagic Resources (CMP) in the exclusive economic zone (EEZ) of the Gulf of Mexico and Atlantic Region (FMP) (Amendment 20B), as prepared and submitted by the Gulf of Mexico (Gulf) and South Atlantic Fishery Management Councils (Councils). This rule modifies Gulf migratory group king mackerel trip limits and fishing years, allows transit through areas closed to king mackerel fishing, creates zones and quotas for Atlantic migratory group king and Spanish mackerel, modifies the framework procedures for the FMP, increases annual catch limits (ACLs) and annual catch targets (ACTs) for cobia, and creates an east coast zone and quotas for Gulf migratory group cobia. In addition, this rule reorganizes the description of CMP zones in the regulations and clarifies that spearguns and powerheads are allowable gear for cobia in Federal waters of the South Atlantic and Mid-Atlantic regions. The purpose of this rule is to help achieve optimum yield (OY) for the CMP fishery while ensuring allocations are fair and equitable and fishery resources are utilized efficiently.

DATES: This rule is effective March 1, 2015.

ADDRESSES: Electronic copies of Amendment 20B, which includes an environmental assessment, a Regulatory Flexibility Act analysis, and a regulatory impact review, may be obtained from the Southeast Regional Office Web site at http://sero.nmfs.noaa.gov/sustainable_fisheries/gulf_sa/cmp/index.html.

FOR FURTHER INFORMATION CONTACT: Susan Gerhart, telephone: 727-824-5305, or email: Susan.Gerhart@noaa.gov.

SUPPLEMENTARY INFORMATION: The CMP fishery in the Gulf and Atlantic is managed under the FMP. The FMP was prepared by the Councils and implemented through regulations at 50 CFR part 622 under the authority of the Magnuson-Stevens Fishery Conservation and Management Act (Magnuson-Stevens Act).

On October 17, 2014, NMFS published a notice of availability for Amendment 20B and requested public comment (79 FR 62410). On October 31, 2014, NMFS published a proposed rule for Amendment 20B and requested public comment (79 FR 64728). The proposed rule and Amendment 20B outline the rationale for the actions contained in this final rule. A summary of the actions implemented by this final rule is provided below.

Management Measures Contained in Amendment 20B and This Final Rule

Amendment 20B and this rule modify Gulf migratory group king mackerel trip limits and fishing years, allow transit through areas closed to king mackerel fishing, create zones and quotas for Atlantic migratory group king and Spanish mackerel, modify the framework procedures for the FMP, increase ACLs and ACTs for cobia, and create an east coast zone and quotas for Gulf migratory group cobia. The purpose of this rule is to help achieve OY for the CMP fishery while ensuring allocations are fair and equitable and fishery resources are utilized efficiently.

Gulf Migratory Group King Mackerel Commercial Hook-and-Line Trip Limits

This final rule removes the Gulf migratory group king mackerel hook-and-line trip limit reduction for the northern and southern subzones of the Gulf eastern zone's Florida west coast subzone, to allow the harvest of 1,250 lb (567 kg) per day until the quota for the subzone has been met or projected to be met and the respective subzone is closed to king mackerel harvest.

Gulf Migratory Group Eastern Zone Northern and Southern Subzone King Mackerel Fishing Years

This rule changes the Florida west coast northern subzone fishing year to October 1 through September 30. The fishing year for the Florida west coast southern subzone will remain July 1 through June 30.

Transit Through Areas Closed to King Mackerel

This rule allows a vessel with a valid commercial vessel permit for king mackerel that has onboard king mackerel harvested in an open area of the EEZ to transit through areas closed to the harvest of king mackerel due to a quota closure, if fishing gear is appropriately stowed. For the purpose of this provision, transit means a direct and non-stop continuous course through the area. Fishing gear appropriately stowed means that: (1) A gillnet must be left on the drum (any additional gillnets not attached to the drum must be stowed below deck), (2) a rod and reel must be removed from the rod holder and stowed securely on or below deck, (3) terminal gear (i.e., hook, leader, sinker, flasher, or bait) must be disconnected and stowed separately from the rod and reel, and (4) sinkers must be disconnected from the down rigger and stowed separately.

Atlantic Migratory Group King and Spanish Mackerel Zones

This rule creates northern and southern zones for Atlantic migratory group king and Spanish mackerel, each with separate commercial quotas. The boundary between the zones is a line extending from the South Carolina/North Carolina state line. The commercial ACL is split between the zones based on landings from the 2002/2003-2011/2012 fishing years. The northern zone allocation was calculated using combined commercial landings from North Carolina, Virginia, Maryland, Delaware, Pennsylvania, New Jersey, and New York. The southern zone allocation was calculated using combined commercial landings from South Carolina, Georgia, the Florida east coast, and Florida Keys on the Atlantic side.

For king mackerel, applying this formula results in an allocation of 33.3 percent for the northern zone and 66.7 percent for the southern zone. For Spanish mackerel, the formula results in an allocation of 19.9 percent for the northern zone and 80.1 percent for the southern zone. NMFS will monitor the commercial quotas, and close Federal waters in each zone when the respective quota is reached or projected to be reached. Transfer of quota between zones is allowed through a request to NMFS initiated by either North Carolina (northern zone) or Florida (southern zone). The recreational ACLs for Atlantic migratory group king and Spanish mackerel will remain unchanged.

Modifications to the FMP Framework Procedures

This rule allows modification to certain management measures under the standard documentation process of the open framework procedure. These management measures include acceptable biological catches (ABCs) and ABC control rules, ACLs and ACL control rules, and accountability measures. This rule also modifies the framework procedures to the FMP to designate responsibility to each council (Gulf or South Atlantic) for setting specified management measures for the migratory groups of each species in their respective regions. Additionally, “sale and purchase restrictions” and “transfer at sea provisions” are removed from the list in § 622.389.

Cobia Zones, ACLs, and ACTs

Based on the results of the most recent stock assessment for Gulf and South Atlantic cobia, this rule divides Gulf migratory group cobia into a Gulf zone (Texas through the Gulf side of the Florida Keys) and a Florida east coast zone (east coast of Florida and Atlantic side of the Florida Keys, i.e., the area within the South Atlantic Council's jurisdiction). The Gulf ACL is allocated between the zones based on landings from the 1998-2012 fishing years. The South Atlantic Council is responsible for regulations for the Florida east coast zone, similar to management of the Florida east coast subzone for king mackerel. This rule also increases the ACLs for both migratory groups, the recreational ACT for the Atlantic migratory group, and the stock ACT for the Gulf zone.

Additional Management Measures Contained in This Final Rule

This rule reorganizes the description of the CMP zones and subzones and adds § 622.369 to the codified text to describe the zones and Appendix G to part 622 to represent the zones in figures. In addition, this rule clarifies that spearguns and powerheads are allowable gear for cobia in Federal waters of the South Atlantic and Mid-Atlantic regions.

Comments and Responses

NMFS received a total of 11 submissions from the public, 3 of which were duplicates. Within the 8 unique submissions, some comments addressed issues beyond the scope of the proposed rule. NMFS identified 4 issues related to Amendment 20B and its proposed rule. These comments and NMFS' respective responses are summarized below.

Comment 1: Changing the start of the fishing year for the Florida west coast northern subzone to a date that is later than the start of the fishing year for the Gulf western zone will result in a very short fishing season for the northern subzone. When the western zone quota is filled, most of the traveling fishermen will move over to the northern subzone and quickly catch the small quota.

Response: NMFS disagrees that changing the start of the fishing year for the Florida west coast northern subzone from July 1 to October 1 will allow the quota for that zone to be harvested substantially faster than occurs now. Currently, fishermen travel from the Atlantic coast fish in the western zone until that quota is met, and then move to the northern subzone and quickly harvest that quota. Delaying the start of the northern subzone fishing year until October is not likely to change this pattern unless one of two things occur, either of which could discourage traveling fishermen from fishing in the northern subzone. First, the delay in the opening of the northern subzone could result in a period of time when both the western zone and northern subzones are closed. This could decrease the number of fishers staying in the northern Gulf waiting for the northern subzone to open. Second, the delay in opening could allow the fish to migrate to the southern part of the northern subzone, which extends down the west coast of Florida, before the quota is met and the subzone is closed. The traveling fishermen do not generally follow the fish as they migrate south, leaving these fish available to the local fisherman in this part of the northern subzone.

Comment 2: A strong market for king mackerel exists in the northeastern United States and eastern Canada during the summer months. To take greatest advantage of this market the western zone and the Florida west coast northern subzone should both open at least by June 1, if not May 1.

Response: NMFS disagrees that having a May 1 or June 1 opening date would result in fishermen being able to take advantage of a strong market during the summer. Although niche markets may arise, over the period 2011-2013, the average price per pound (round weight; NMFS Fisheries Statistics Division) for king mackerel harvested in the Gulf was highest in the fall (September through December), followed by the summer (June through August), and the winter/spring (January through May). Although other price determinants may have applied, these prices reflected the volume of king mackerel sold, with the highest average prices associated with the lowest amounts of king mackerel sold, the lowest average prices with the highest amounts sold, etc. Average prices in May and June have likely been high due to the low volume of king mackerel sold during these months and, as a result, prices would be expected to fall if the start of the seasons were adjusted to allow increased harvests during these months.

Comment 3: The daily trip limits for king mackerel in the Gulf should be kept low to extend the season to at least 6 months and to increase prices. The only reason the season is open as long as it is now is because of the 500-lb (227-kg) reduction once the 75-percent level is reached. Taking away that reduction will only shorten the season even more. Also, currently, the season closes before king mackerel reach the southern part of the northern subzone in the eastern Gulf. The king mackerel fishermen in the southern part of the zone may be able to catch king mackerel once they arrive back south after the migration if a lower trip limit is implemented.

Response: NMFS disagrees that the 500-lb (227-kg) trip limit reduction makes any substantial difference in the season length and agrees with the Council's decision to remove this in-season reduction. The estimated difference in the season length for the northern subzone with and without the trip limit reduction is only 3 days. In addition, the trip limit reduction is difficult to implement in a timely manner. Regarding the permanent trip limit, the Council did not consider any trip limits lower than the current 1,250 lb (567 kg) for Gulf migratory grouper king mackerel in Amendment 20B. Although a lower trip limit could extend the season, testimony from fishermen indicated that the cost of fuel versus the income from a small amount of fish would be too high to maintain a profit. However, as explained in the response to Comment 2, changing the start of the fishing year in the northern subzone to October 1 could allow the fish to migrate back to the south before the season closes, providing additional fishing opportunities for those in the southern part of that zone.

Comment 4: One commenter noted that the creation of northern and southern zones for Atlantic migratory group Spanish mackerel would include an increased trip limit and that there was no upper limit on pounds of mackerel allowed.

Response: The trip limits and catch limits for Atlantic migratory group Spanish mackerel will not be affected by Amendment 20B. The trip limit in both zones will remain 3,500 lb (1,588 kg), except off Florida, where the trip limit changes throughout the year. The ACL will remain in place; the only change implemented in this final rule is that the ACL will be divided between the two zones as separate quotas. The Spanish mackerel ACL was recently increased through a separate action effective December 22, 2014 (79 FR 69058, November 20, 2014).

Changes From the Proposed Rule

A final rule for CMP Framework Amendment 1, effective on December 22, 2014 (79 FR 69058, November 20, 2014), increased the ACLs for Atlantic migratory group Spanish mackerel, based on the results of the most recent stock assessments for Atlantic and Gulf migratory group Spanish mackerel. Therefore, this final rule applied the allocation formula in Amendment 20B to the revised ACLs, resulting in quotas for the northern and southern zone for Atlantic migratory group Spanish mackerel that are greater than those proposed.

Classification

The Regional Administrator, Southeast Region, NMFS, has determined that this final rule is necessary for the conservation and management of Atlantic and Gulf migratory groups of king mackerel, Spanish mackerel, and cobia and is consistent with Amendment 20B, the FMP, the Magnuson-Stevens Act and other applicable law.

This final rule has been determined to be not significant for purposes of Executive Order 12866.

The Chief Counsel for Regulation of the Department of Commerce certified to the Chief Counsel for Advocacy of the Small Business Administration during the proposed rule stage that this rule would not have a significant economic impact on a substantial number of small entities. The factual basis for this determination was published in the proposed rule and is not repeated here. Comments on the effects of setting different start dates for the Florida west coast Northern Subzone and the Western Zone, and the market incentives of the season start date are addressed in the comments and responses section of this final rule. No changes to the final rule were made in response to these comments. As a result, a final regulatory flexibility analysis was not required and none was prepared.

List of Subjects in 50 CFR Part 622

Atlantic, Coastal Migratory Pelagic Resources, Cobia, Fisheries, Fishing, Gulf, King mackerel, Spanish mackerel.

Dated: January 22, 2015.
Eileen Sobeck,
Assistant Administrator for Fisheries, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.2, the definition of “Migratory group, for king mackerel, Spanish mackerel, and cobia” is revised to read as follows:

§ 622.2 Definitions and acronyms.

* * * * *

Migratory group, for king mackerel, Spanish mackerel, and cobia, means a group of fish that may or may not be a separate genetic stock, but that is treated as a separate stock for management purposes. King mackerel, Spanish mackerel, and cobia are divided into migratory groups—the boundaries between these groups are specified in § 622.369.

* * * * *

3. In § 622.7, paragraph (b)(1) is revised to read as follows:

§ 622.7 Fishing years.

* * * * *

(b) * * *

(1) Gulf migratory group king mackerel—(i) Eastern zone—July 1 through June 30, except the northern subzone of the Florida west coast subzone, which has a fishing year of October 1 through September 30.

(ii) Western zone—July 1 through June 30.

* * * * *

4. Add § 622.369 to subpart Q to read as follows:

§ 622.369 Description of zones and subzones.

(a) Migratory groups of king mackerel. In the EEZ, king mackerel are divided into the Gulf migratory group and the Atlantic migratory group. The Gulf migratory group is bound by a line extending east of the U.S./Mexico border and the summer/winter jurisdictional boundary. The Atlantic migratory group is bound by the summer/winter jurisdictional boundary and a line from the intersection point of Connecticut, Rhode Island, and New York (as described in § 600.105(a) of this chapter). From April 1 through October 31, the summer jurisdictional boundary separates the Gulf and Atlantic migratory groups of king mackerel by a line extending due west from the Monroe/Collier County, FL, boundary. From November 1 through March 31, the winter jurisdictional boundary separates the Gulf and Atlantic migratory groups of king mackerel by a line extending due east from the Volusia/Flagler County, FL, boundary. See Table 1 of this section for the boundary coordinates. See Figures 1 and 2 in Appendix G of this part for illustration.

(1) Gulf migratory group. The Gulf migratory group is divided into western and eastern zones separated by a line extending due south from the Alabama/Florida border. See Table 1 of this section for the boundary coordinates. See Figures 1 and 2 in Appendix G of this part for illustration.

(i) Western zone. The western zone encompasses an area of the EEZ north of a line extending east of the US/Mexico border, and west of a line extending due south of the Alabama/Florida border, including the EEZ off Texas, Louisiana, Mississippi, and Alabama. This zone remains the same year round.

(ii) Eastern zone. The eastern zone is divided into the Florida west coast subzone and the Florida east coast subzone.

(A) Florida west coast subzone. The Florida west coast subzone is further divided into the northern and southern subzones by a line extending due west from the Lee/Collier County, FL, boundary.

(1) Northern subzone. The northern subzone encompasses an area of the EEZ east of a line extending due south of the Florida/Alabama border, and north of a line extending due west of the Lee/Collier County, FL, boundary, and remains the same area year round.

(2) Southern subzone. From November 1 through March 31, the southern subzone encompasses an area of the EEZ south of a line extending due west of the Lee/Collier County, FL, boundary on the Florida west coast, and south of a line extending due east of the Monroe/Miami-Dade County, FL, boundary on the Florida east coast, which includes the EEZ off Collier and Monroe Counties, FL. From April 1 through October 31, the southern subzone is reduced to the EEZ off Collier County, and the EEZ off Monroe County becomes part of the Atlantic migratory group area.

(B) Florida east coast subzone. From November 1 through March 31, the Florida east coast subzone encompasses an area of the EEZ south of a line extending due east of the Flagler/Volusia County, FL, boundary, and north of a line extending due east of the Miami-Dade/Monroe County, FL, boundary. From April 1 through October 31, the Florida east coast subzone is not part of the Gulf migratory group king mackerel area; it is part of the Atlantic migratory group king mackerel area.

(2) Atlantic migratory group. The Atlantic migratory group is divided into the northern and southern zones separated by a line extending from the North Carolina/South Carolina border, as specified in § 622.2. See Table 1 of this section for the boundary coordinates. See Figures 1 and 2 in Appendix G of this part for illustration. See § 622.385(a)(1) for a description of the areas for Atlantic migratory group king mackerel commercial trip limits.

(i) Northern zone. The northern zone encompasses an area of the EEZ south of a line extending from the intersection point of New York, Connecticut, and Rhode Island (as described in § 600.105(a) of this chapter), and north of a line extending from the North Carolina/South Carolina border, as specified in § 622.2, including the EEZ off each state from North Carolina to New York. This zone remains the same year round.

(ii) Southern zone. From April 1 through October 31, the southern zone encompasses an area of the EEZ south of a line extending from the North Carolina/South Carolina border, as specified in § 622.2, and south of a line extending due west of the Lee/Collier County, FL, boundary. From November 1 through March 31, the southern zone encompasses an area of the EEZ south of a line extending from the North Carolina/South Carolina border, as specified in § 622.2, and north of a line extending due east of the Flagler/Volusia County, FL, boundary.

Table 1 to § 622.369—King Mackerel Description of Zones
[For illustration, see Figures 1 and 2 in Appendix G of this part]
Area | Boundary 1 | Boundary 2: Summer | Boundary 2: Winter
Gulf Migratory Group—Western Zone | US/Mexico, A line east of the intersection of 25°58′30.57″ N lat. and 96°55′27.37″ W long | AL/FL: 87°31′6″ W long.
Gulf Migratory Group—Eastern Zone: Florida West Coast Northern Subzone | AL/FL, 87°31′6″ W long | Lee/Collier: 26°19′48″ N lat.
Gulf Migratory Group—Eastern Zone: Florida West Coast Southern Subzone | Lee/Collier, 26°19′48″ N lat | Collier/Monroe: 25°48″ N lat | Monroe/Miami-Dade: 25°20′24″ N lat.
Gulf Migratory Group—Eastern Zone: Florida East Coast Subzone | Monroe/Miami-Dade, 25°20′24″ N lat. | NA | Volusia/Flagler: 29°25″ N lat.
Atlantic Migratory Group—Northern Zone | NY/CT/RI, 41°18′16.249″ N lat. and 71°54′28.477″ W long. southeast to 37°22′32.75″ N lat. and the intersection point with the outward boundary of the EEZ | NC/SC, a line extending in a direction of 135°34′55″ from true north beginning at 33°51′07.9″ N lat. and 78°32′32.6″ W long. to the intersection point with the outward boundary of the EEZ.
Atlantic Migratory Group—Southern Zone | NC/SC, a line extending in a direction of 135°34′55″ from true north beginning at 33°51′07.9″ N lat. and 78°32′32.6″ W long. to the intersection point with the outward boundary of the EEZ | Collier/Monroe: 25°48″ N lat | Volusia/Flagler: 29°25″ N lat.

(b) Migratory groups of Spanish mackerel—(1) Gulf migratory group. In the EEZ, the Gulf migratory group is bounded by a line extending east of the US/Mexico border and a line extending due east of the Monroe/Miami-Dade County, FL, boundary. See Table 2 of this section for the boundary coordinates. See Figure 3 in Appendix G of this part for illustration.

(2) Atlantic migratory group. In the EEZ, the Atlantic migratory group is bounded by a line extending due east of the Monroe/Miami-Dade County, FL, boundary and a line extending from the intersection point of New York, Connecticut, and Rhode Island (as described in § 600.105(a) of this chapter). The Atlantic migratory group is divided into the northern and southern zones. See Table 2 of this section for the boundary coordinates. See Figure 3 in Appendix G of this part for illustration. See § 622.385(b)(1) for a description of the areas for Atlantic migratory group Spanish mackerel commercial trip limits.

(i) Northern zone. The northern zone encompasses an area of the EEZ south of a line extending from the intersection point of New York, Connecticut, and Rhode Island (as described in § 600.105(a) of this chapter), and north of a line extending from the North Carolina/South Carolina border, as specified in § 622.2, including the EEZ off each state from North Carolina to New York.

(ii) Southern zone. The southern zone encompasses an area of the EEZ south of a line extending from the North Carolina/South Carolina border, as specified in § 622.2, and north of a line extending due east of the Monroe/Miami-Dade County, FL, boundary, including the EEZ off South Carolina, Georgia, and Florida.

Table 2 to § 622.369—Spanish Mackerel Description of Zones
[For illustration, see Figure 3 in Appendix G of this part]
Area | Boundary 1 | Boundary 2
Gulf Migratory Group | US/Mexico, A line east of the intersection of 25°58′30.57″ N lat. and 96°55′27.37″ W long | Monroe/Miami-Dade, 25°20′24″N lat.
Atlantic Migratory Group—Northern Zone | NY/CT/RI, 41°18′16.249″ N lat. and 71°54′28.477″ W long. southeast to 37°22′32.75″ N lat. and the intersection point with the outward boundary of the EEZ | NC/SC, a line extending in a direction of 135°34′55″ from true north beginning at 33°51′07.9″ N lat. and 78°32′32.6″ W long. to the intersection point with the outward boundary of the EEZ.
Atlantic Migratory Group—Southern Zone | NC/SC, a line extending in a direction of 135°34′55″ from true north beginning at 33°51′07.9″ N lat. and 78°32′32.6″ W long. to the intersection point with the outward boundary of the EEZ | Monroe/Miami-Dade, 25°20′24″N lat.

(c) Migratory groups of cobia—(1) Gulf migratory group. In the EEZ, the Gulf migratory group is bounded by a line extending east from the U.S./Mexico border and a line extending due east from the Florida/Georgia border. See Table 3 of this section for the boundary coordinates. (See Figure 4 in Appendix G of this part for illustration.)

(i) Gulf zone. The Gulf zone encompasses an area of the EEZ north of a line extending east of the U.S./Mexico border, and north and west of the line of demarcation between the Atlantic Ocean and the Gulf of Mexico (the Council boundary, as described in § 600.105(c) of this chapter).

(ii) Florida east coast zone. The Florida east coast zone encompasses an area of the EEZ south and east of the line of demarcation between the Atlantic Ocean and the Gulf of Mexico (as described in § 600.105(c) of this chapter), and south of a line extending due east from the Florida/Georgia border.

(2) Atlantic migratory group. In the EEZ, the Atlantic migratory group is bounded by a line extending from the intersection point of New York, Connecticut, and Rhode Island (as described in § 600.105(a) of this chapter) and a line extending due east of the Florida/Georgia border. See Table 3 of this section for the boundary coordinates.

Table 3 to § 622.369—Cobia Description of Zones
[For illustration, see Figure 4 in Appendix G of this part]
Area | Boundary 1 | Boundary 2
Gulf Migratory Group—Gulf Zone | US/Mexico, A line east of the intersection of 25°58′30.57″ N lat. and 96°55′27.37″ W long | Council Boundary—the intersection of the outer boundary of the EEZ and 83°00′ W long., north to 24°35′ N lat., (near the Dry Tortugas Islands), then east to the mainland.
Gulf Migratory Group—Florida East Coast Zone | Council Boundary—the intersection of the outer boundary of the EEZ and 83°00′ W long., north to 24°35′ N lat., (near the Dry Tortugas Islands), then east to the mainland | FL/GA, 30°42′45.6″ N lat.
Atlantic Migratory Group | NY/CT/RI, 41°18′16.249″ N lat. and 71°54′28.477″ W long. southeast to 37°22′32.75″ N lat. and the intersection point with the outward boundary of the EEZ | FL/GA, 30°42′45.6″ N lat.

5. In § 622.375, paragraph (a) is revised to read as follows:

§ 622.375 Authorized and unauthorized gear.

(a) Authorized gear—(1) King and Spanish mackerel. Subject to the prohibitions on gear/methods specified in § 622.9, the following are the only fishing gears that may be used in the Gulf, Mid-Atlantic, and South Atlantic EEZ in directed fisheries for king and Spanish mackerel:

(i) King mackerel, Atlantic migratory group—(A) North of 34°37.3′ N. lat., the latitude of Cape Lookout Light, NC—all gear except drift gillnet and long gillnet.

(B) South of 34°37.3′ N. lat.—automatic reel, bandit gear, handline, and rod and reel.

(ii) King mackerel, Gulf migratory group—hook-and-line gear and, in the southern Florida west coast subzone only, run-around gillnet. (See § 622.369(a)(1)(ii)(A)(2) for a description of the Florida west coast southern subzone.)

(iii) Spanish mackerel, Atlantic migratory group—automatic reel, bandit gear, handline, rod and reel, cast net, run-around gillnet, and stab net.

(iv) Spanish mackerel, Gulf migratory group—all gear except drift gillnet, long gillnet, and purse seine.

(2) Cobia. Subject to the prohibitions on gear/methods specified in § 622.9, the following are the only fishing gears that may be used in the Gulf, Mid-Atlantic, and South Atlantic EEZ for cobia.

(i) Cobia in the Mid-Atlantic and South Atlantic EEZ—automatic reel, bandit gear, handline, rod and reel, pelagic longline, and spear (including powerheads).

(ii) Cobia in the Gulf EEZ—all gear except drift gillnet and long gillnet.

* * * * *

6. Section 622.378 is revised to read as follows:

§ 622.378 Area and seasonal closures.

(a) Seasonal closures of the gillnet component for Gulf migratory group king mackerel. The gillnet component for Gulf group king mackerel in or from the Florida west coast southern subzone is closed each fishing year from July 1 until 6 a.m. on the day after the Martin Luther King Jr. Federal holiday. The gillnet component is open on the first weekend following the Martin Luther King Jr. holiday, provided a notification of closure has not been filed under § 622.8(b). The gillnet component is closed all subsequent weekends and observed Federal holidays. Weekend closures are effective from 6 a.m. Saturday to 6 a.m. Monday. Holiday closures are effective from 6 a.m. on the observed Federal holiday to 6 a.m. the following day. All times are eastern standard time. During these closures, a person aboard a vessel using or possessing a gillnet with a stretched-mesh size of 4.75 inches (12.1 cm) or larger in the southern Florida west coast subzone may not fish for or possess Gulf migratory group king mackerel. (See § 622.369(a)(1)(ii)(A)(2) for a description of the Florida west coast southern subzone.)

(b) [Reserved]

7. In § 622.384, the introductory text, and paragraphs (a), (b), (c), and (d) are revised to read as follows:

§ 622.384 Quotas.

See § 622.8 for general provisions regarding quota applicability and closure and reopening procedures. See § 622.369 for the descriptions of the zones. This section provides quotas and specific quota closure restrictions for coastal migratory pelagic fish. All weights are in round and eviscerated weight combined, unless specified otherwise.

(a) King and Spanish mackerel quotas apply to persons who fish under commercial vessel permits for king or Spanish mackerel, as required under § 622.370(a)(1) or (3). A fish is counted against the quota for the area where it is caught, not where it is landed.

(b) King mackerel—(1) Gulf migratory group. The Gulf migratory group is divided into zones and subzones. The descriptions of the zones and subzones are specified in § 622.369(a). Quotas for the eastern and western zones are as follows:

(i) Eastern zone. The eastern zone is divided into subzones with quotas as follows:

(A) Florida east coast subzone—1,102,896 lb (500,265 kg).

(B) Florida west coast subzone—(1) Southern subzone. The hook-and-line quota is 551,448 lb (250,133 kg) and the run-around gillnet quota is 551,448 lb (250,133 kg).

(2) Northern subzone—178,848 lb (81,124 kg).

(ii) Western zone—1,071,360 lb (485,961 kg).

(2) Atlantic migratory group. The Atlantic migratory group is divided into northern and southern zones. The descriptions of the zones are specified in § 622.369(a). Quotas for the northern and southern zones for the 2015-2016 fishing year and subsequent years are as follows:

(i) Northern zone—1,292,040 lb (586,059 kg). No more than 0.40 million lb (0.18 million kg) may be harvested by purse seines.

(ii) Southern zone—2,587,960 lb (1,173,879 kg).

(iii) Quota transfers. North Carolina or Florida, in consultation with the other states in their respective zones, may request approval from the RA to transfer part or all of their respective zone's annual commercial quota to the other zone. Requests for transfer of commercial quota for king mackerel must be made by a letter signed by the principal state official with marine fishery management responsibility and expertise of the state requesting the transfer, or his/her previously named designee. The letter must certify that all pertinent state requirements have been met and identify the states involved and the amount of quota to be transferred. For the purposes of quota closures as described in § 622.8, the receiving zone's quota will be the original quota plus any transferred amount, for that fishing season only. Landings associated with any transferred quota will be included in the total landings for the Atlantic migratory group, which will be evaluated relative to the total ACL.

(A) Within 10 working days following the receipt of the letter from the state requesting the transfer, the RA shall notify the appropriate state officials of the disposition of the request. In evaluating requests to transfer a quota, the RA shall consider whether:

(1) The transfer would allow the overall annual quota to be fully harvested; and

(2) The transfer is consistent with the objectives of the FMP and the Magnuson-Stevens Act.

(B) The transfer of quota will be valid only for the fishing year for which the request was made and does not permanently alter the quotas specified in paragraphs (b)(2)(i) and (b)(2)(ii) of this section.

(3) Transit provisions applicable in areas closed due to a quota closure for king mackerel. A vessel with a valid commercial vessel permit for king mackerel that has onboard king mackerel harvested in an open area of the EEZ may transit through areas closed to the harvest of king mackerel due to a quota closure, if fishing gear is appropriately stowed. For the purpose of paragraph (b) of this section, transit means direct and non-stop continuous course through the area. To be appropriately stowed fishing gear means—

(i) A gillnet must be left on the drum. Any additional gillnets not attached to the drum must be stowed below deck.

(ii) A rod and reel must be removed from the rod holder and stowed securely on or below deck. Terminal gear (i.e., hook, leader, sinker, flasher, or bait) must be disconnected and stowed separately from the rod and reel. Sinkers must be disconnected from the down rigger and stowed separately.

(c) Spanish mackerel—(1) Gulf migratory group. [Reserved]

(2) Atlantic migratory group. The Atlantic migratory group is divided into northern and southern zones. The descriptions of the zones are specified in § 622.369(b). The quota for the Atlantic migratory group of Spanish mackerel is 3.33 million lb (1.51 million kg). Quotas for the northern and southern zones are as follows:

(i) Northern zone—662,670 lb (300,582 kg).

(ii) Southern zone—2,667,330 lb (1,209,881 kg).

(iii) Quota transfers. North Carolina or Florida, in consultation with the other states in their respective zones, may request approval from the RA to transfer part or all of their respective zone's annual commercial quota to the other zone. Requests for transfer of commercial quota for Spanish mackerel must be made by a letter signed by the principal state official with marine fishery management responsibility and expertise, or his/her previously named designee, for each state involved. The letter must certify that all pertinent state requirements have been met and identify the states involved and the amount of quota to be transferred. For the purposes of quota closures as described in § 622.8, the receiving zone's quota will be the original quota plus any transferred amount, for that fishing season only. Landings associated with any transferred quota will be included in the total landings for the Atlantic migratory group, which will be evaluated relative to the total ACL.

(A) Within 10 working days following the receipt of the letter from the states involved, the RA shall notify the appropriate state officials of the disposition of the request. In evaluating requests to transfer a quota, the RA shall consider whether:

(1) The transfer would allow the overall annual quota to be fully harvested; and

(2) The transfer is consistent with the objectives of the FMP and the Magnuson-Stevens Act.

(B) The transfer of quota will be valid only for the fishing year for which the request was made and does not permanently alter any zone's quota specified in paragraph (c)(2)(i) or (c)(2)(ii) of this section.

(d) Cobia—(1) Gulf migratory group—(i) Gulf zone. For the 2014 fishing year, the stock quota for the Gulf migratory group of cobia in the Gulf zone is 1,420,000 lb (644,101 kg). For the 2015 fishing year, the stock quota is 1,450,000 lb (657,709 kg). For the 2016 fishing year and subsequent fishing years, the stock quota is 1,500,000 lb (680,389 kg).

(ii) Florida east coast zone. The following quota applies to persons who fish for cobia and sell their catch. The quota for the Gulf migratory group of cobia in the Florida east coast zone is 70,000 lb (31,751 kg).

(2) Atlantic migratory group. The following quotas apply to persons who fish for cobia and sell their catch. For the 2014 and 2015 fishing years, the quota for the Atlantic migratory group of cobia is 60,000 lb (27,216 kg). The quota for the 2016 fishing year and subsequent fishing years is 50,000 lb (22,680 kg).

* * * * *

8. In § 622.385:

a. The heading for paragraph (a)(1), the heading for paragraph (a)(2), the second sentence in paragraph (a)(2), and paragraph (a)(2)(ii)(B) are revised;

b. Paragraph (a)(2)(iii) is removed;

c. Paragraph (a)(2)(iv) is redesignated as paragraph (a)(2)(iii);

d. Newly redesignated paragraph (a)(2)(iii) is revised; and

e. A heading is added to paragraph (b)(1).

The revisions and addition read as follows:

§ 622.385 Commercial trip limits.

* * * * *

(a) * * *

(1) Atlantic migratory group. * * *

(2) Gulf migratory group. * * * (See § 622.369(a)(2) for descriptions of the eastern and western zones and § 622.369(a)(2)(ii) for descriptions of the subzones in the eastern zone.)

* * * * *

(ii) * * *

(B) Hook-and-line gear. In the Florida west coast subzone, king mackerel in or from the EEZ may be possessed on board or landed from a vessel with a commercial permit for king mackerel, as required by § 622.370(a)(1), and operating under the hook-and-line gear quotas in § 622.384(b)(1)(i)(B)(1) or (2):

(1) Northern subzone. From October 1, each fishing year, until the northern subzone's hook-and-line gear quota has been harvested—in amounts not exceeding 1,250 lb (567 kg) per day.

(2) Southern subzone. From July 1, each fishing year, until the southern subzone's hook-and-line gear quota has been harvested—in amounts not exceeding 1,250 lb (567 kg) per day.

(iii) Western zone. In the western zone, king mackerel in or from the EEZ may be possessed on board or landed from a vessel for which a commercial permit for king mackerel has been issued, as required under § 622.370(a)(1), from July 1, each fishing year, until a closure of the western zone has been effected under § 622.8(b)—in amounts not exceeding 3,000 lb (1,361 kg) per day.

(b) * * *

(1) Atlantic migratory group. * * *

* * * * *

9. In § 622.388, paragraphs (a)(1), (a)(3), (b)(1), (d)(1), (e), and (f) are revised to read as follows:

622.388 Annual catch limits (ACLs), annual catch targets (ACTs), and accountability measures (AMs).

* * * * *

(a) Gulf migratory group king mackerel—(1) Commercial sector—(i) If commercial landings, as estimated by the SRD, reach or are projected to reach the applicable quota specified in § 622.384(b)(1), the AA will file a notification with the Office of the Federal Register to close the commercial sector for that zone, subzone, or gear type for the remainder of the fishing year.

(ii) The commercial ACL for the Gulf migratory group of king mackerel is 3.456 million lb (1.568 million kg). This ACL is further divided into a commercial ACL for vessels fishing with hook-and-line and a commercial ACL for vessels fishing with run-around gillnets. The hook-and-line ACL (which applies to the entire Gulf) is 2,904,552 lb (1,317,483 kg) and the run-around gillnet ACL (which applies to the Gulf eastern zone Florida west coast southern subzone) is 551,448 lb (250,133 kg).

* * * * *

(3) For purposes of tracking the ACL, recreational landings will be monitored based on the commercial fishing year.

(b) Atlantic migratory group king mackerel—(1) Commercial sector—(i) If commercial landings, as estimated by the SRD, reach or are projected to reach the applicable quota specified in § 622.384(b)(2), the AA will file a notification with the Office of the Federal Register to close the commercial sector for that zone for the remainder of the fishing year.

(ii) In addition to the measures specified in paragraph (b)(1)(i) of this section, if the sum of the commercial and recreational landings, as estimated by the SRD, exceeds the stock ACL, as specified in paragraph (b)(3) of this section, and Atlantic migratory group king mackerel are overfished, based on the most recent status of U.S. Fisheries Report to Congress, the AA will file a notification with the Office of the Federal Register, at or near the beginning of the following fishing year to reduce the commercial quota for that zone for that following year by the amount of any commercial sector overage in the prior fishing year for that zone.

(iii) The commercial ACL for the Atlantic migratory group of king mackerel is 3.88 million lb (1.76 million kg).

* * * * *

(d) Atlantic migratory group Spanish mackerel—(1) Commercial sector. (i) If commercial landings, as estimated by the SRD, reach or are projected to reach the applicable quota specified in § 622.384(c)(2), the AA will file a notification with the Office of the Federal Register to close the commercial sector for that zone for the remainder of the fishing year.

(ii) In addition to the measures specified in paragraph (d)(1)(i) of this section, if the sum of the commercial and recreational landings, as estimated by the SRD, exceeds the stock ACL, as specified in paragraph (d)(3) of this section, and Atlantic migratory group Spanish mackerel are overfished, based on the most recent status of U.S. Fisheries Report to Congress, the AA will file a notification with the Office of the Federal Register, at or near the beginning of the following fishing year to reduce the commercial quota for that zone for that following year by the amount of any commercial sector overage in the prior fishing year for that zone.

(iii) The commercial ACL for the Atlantic migratory group Spanish mackerel is 3.13 million lb (1.42 million kg).

* * * * *

(e) Gulf migratory group cobia—(1) Gulf zone. (i) If the sum of all cobia landings, as estimated by the SRD, reaches or is projected to reach the stock quota (stock ACT), specified in § 622.384(d)(1), the AA will file a notification with the Office of the Federal Register to prohibit the harvest of Gulf migratory group cobia in the Gulf zone for the remainder of the fishing year. On and after the effective date of such a notification, all sale and purchase of Gulf migratory group cobia in the Gulf zone is prohibited and the possession limit of this species in or from the Gulf EEZ is zero. This possession limit also applies in the Gulf on board a vessel for which a valid Federal charter vessel/headboat permit for coastal migratory pelagic fish has been issued, without regard to where such species were harvested, i.e. in state or Federal water.

(ii) The stock ACLs for Gulf migratory group cobia in the Gulf zone are 1,570,000 lb (712,140 kg) for 2014, 1,610,000 lb (730,284 kg) for 2015, and 1,660,000 lb (752,963 kg) for 2016 and subsequent fishing years.

(2) Florida east coast zone—(i) The following ACLs and AMs apply to cobia that are sold. (A) If the sum of cobia landings that are sold, as estimated by the SRD, reach or are projected to reach the quota specified in § 622.384(d)(1)(ii) (ACL), the AA will file a notification with the Office of the Federal Register to prohibit the sale and purchase of cobia in or from the Florida east coast zone for the remainder of the fishing year.

(B) In addition to the measures specified in paragraph (e)(2)(i)(A) of this section, if the sum of cobia landings that are sold and not sold in or from the Florida east coast zone, as estimated by the SRD, exceeds the stock ACL for the Florida east coast zone, as specified in paragraph (e)(2)(iii) of this section, and Gulf migratory group cobia are overfished, based on the most recent status of U.S. Fisheries Report to Congress, the AA will file a notification with the Office of the Federal Register, at or near the beginning of the following fishing year to reduce the quota (ACL) for the Florida east coast zone cobia that are sold for that following year by the amount of any overage in the prior fishing year.

(ii) The following ACLs and AMs apply to cobia that are not sold. (A) If the sum of cobia landings that are sold and not sold, as estimated by the SRD, exceeds the stock ACL, as specified in paragraph (e)(2)(iii) of this section, the AA will file a notification with the Office of the Federal Register, at or near the beginning of the following fishing year to reduce the length of the following fishing season by the amount necessary to ensure landings may achieve the applicable ACT, but do not exceed the applicable ACL in the following fishing year. Further, during that following year, if necessary, the AA may file additional notification with the Office of the Federal Register to readjust the reduced fishing season to ensure harvest achieves the ACT but does not exceed the ACL. The applicable ACTs for the Florida east coast zone of cobia are 670,000 lb (303,907 kg) for 2014, 680,000 lb (308,443 kg) for 2015, and 710,000 lb (322,051 kg) for 2016 and subsequent fishing years. The applicable ACLs for the Florida east coast zone of cobia are 810,000 lb (367,410 kg) for 2014, 830,000 lb (376,482 kg) for 2015, and 860,000 lb (390,089 kg) for 2016 and subsequent fishing years.

(B) In addition to the measures specified in paragraph (e)(2)(ii)(A) of this section, if the sum of the cobia landings that are sold and not sold in or from the Florida east coast zone, as estimated by the SRD, exceeds the stock ACL, as specified in paragraph (e)(2)(iii) of this section, and Gulf migratory group cobia are overfished, based on the most recent status of U.S. Fisheries Report to Congress, the AA will file a notification with the Office of the Federal Register, at or near the beginning of the following fishing year to reduce the applicable ACL and applicable ACT for the Florida east coast zone for that following year by the amount of any ACL overage in the prior fishing year.

(C) Landings will be evaluated relative to the ACL based on a moving multi-year average of landings, as described in the FMP.

(iii) The stock ACLs for Florida east coast zone cobia are 880,000 lb (399,161 kg) for 2014, 900,000 lb (408,233 kg) for 2015, and 930,000 lb (421,841 kg) for 2016 and subsequent fishing years.

(f) Atlantic migratory group cobia—(1) The following ACLs and AMs apply to cobia that are sold—(i) If the sum of the cobia landings that are sold, as estimated by the SRD, reach or are projected to reach the quota specified in § 622.384(d)(2) (ACL), the AA will file a notification with the Office of the Federal Register to prohibit the sale and purchase of cobia for the remainder of the fishing year.

(ii) In addition to the measures specified in paragraph (f)(1)(i) of this section, if the sum of the cobia landings that are sold and not sold in or from the Atlantic migratory group, as estimated by the SRD, exceeds the stock ACL, as specified in paragraph (f)(3) of this section, and Atlantic migratory group cobia are overfished, based on the most recent status of U.S. Fisheries Report to Congress, the AA will file a notification with the Office of the Federal Register, at or near the beginning of the following fishing year to reduce the applicable quota (ACL), as specified in paragraph (f)(1)(i) of this section, for that following year by the amount of any applicable sector-specific ACL overage in the prior fishing year.

(2) The following ACLs and AMs apply to cobia that are not sold.

(i) If the sum of the cobia landings that are sold and not sold, as estimated by the SRD, exceeds the stock ACL, as specified in paragraph (f)(3) of this section, the AA will file a notification with the Office of the Federal Register, at or near the beginning of the following fishing year to reduce the length of the following fishing season by the amount necessary to ensure landings may achieve the applicable ACT, but do not exceed the applicable ACL in the following fishing year. Further, during that following year, if necessary, the AA may file additional notification with the Office of the Federal Register to readjust the reduced fishing season to ensure harvest achieves the ACT but does not exceed the ACL. The applicable ACTs for the Atlantic migratory group of cobia are 550,000 lb (249,476 kg) for 2014, 520,000 lb (235,868 kg) for 2015, and 500,000 lb (226,796 kg) for 2016 and subsequent fishing years. The applicable ACLs for the Atlantic migratory group of cobia are 670,000 lb (303,907 kg) for 2014, 630,000 lb (285,763 kg) for 2015, and 620,000 lb (281,227 kg) for 2016 and subsequent fishing years.

(ii) In addition to the measures specified in paragraph (f)(2)(i) of this section, if the sum of cobia landings that are sold and not sold, as estimated by the SRD, exceeds the stock ACL, as specified in paragraph (f)(3) of this section, and Atlantic migratory group cobia are overfished, based on the most recent status of U.S. Fisheries Report to Congress, the AA will file a notification with the Office of the Federal Register, at or near the beginning of the following fishing year to reduce the applicable ACL and ACT, as specified in paragraph (f)(2)(i) of this section, for that following year by the amount of any applicable sector-specific overage in the prior fishing year.

(iii) Landings will be evaluated relative to the ACL based on a moving multi-year average of landings, as described in the FMP.

(3) The stock ACLs for Atlantic migratory group cobia are 730,000 lb (331,122 kg) for 2014, 690,000 lb (312,979 kg) for 2015, and 670,000 lb (303,907 kg) for 2016 and subsequent fishing years.

10. Section 622.389 is revised to read as follows:

622.389 Adjustment of management measures.

In accordance with the framework procedures of the FMP for Coastal Migratory Pelagic Resources, the RA may establish or modify, and the applicable council is required to approve, the following items specified in paragraph (a) of this section for coastal migratory pelagic fish. (Note: The applicable council refers to the council whose jurisdiction applies to the management measures.)

(a) For a species or species group: Reporting and monitoring requirements, permitting requirements, bag and possession limits (including a bag limit of zero), size limits, vessel trip limits, closed seasons or areas and reopenings, acceptable biological catches (ABCs) and ABC control rules, annual catch limits (ACLs) and ACL control rules, accountability measures (AMs), annual catch targets (ACTs), quotas (including a quota of zero), MSY (or proxy), OY, management parameters such as overfished and overfishing definitions, gear restrictions (ranging from regulation to complete prohibition), gear markings and identification, vessel markings and identification, rebuilding plans, and restrictions relative to conditions of harvested fish (maintaining fish in whole condition, use as bait).

(b) [Reserved]

11. Appendix G to part 622 is added to read as follows:

Appendix G to Part 622—Coastal Migratory Pelagics Zone Illustrations

BILLING CODE 3510-22-P

[FR Doc. 2015-01442 Filed 1-26-15; 8:45 am]

BILLING CODE 3510-22-C